DEPARTMENT OF HEALTH AND HUMAN SERVICES

National Institutes of Health

National Institute on Drug Abuse; Amended Notice of Meeting

Notice is hereby given of a change in the meeting of the National Institute on Drug Abuse Special Emphasis Panel, April 18, 2007, 9 a.m. to April 19, 2007, 5 p.m., Courtyard by Marriott Rockville, 2500 Research Boulevard, Rockville, MD, 20850 which was published in the Federal Register on March 28, 2007, Volume 72, Number 59.

The date of the meeting was changed to May 9-10, 2007. The meeting is closed to the public.

Dated: April 5, 2007.
Anna Snouffer,
Acting Director, Office of Federal Advisory Committee Policy.

[FR Doc. 07-1846 Filed 4-13-07; 8:45 am]

BILLING CODE 4140-01-M